FEDERAL COMMUNICATIONS COMMISSION

[CC Docket 98-67; DA 04-1599]

Consumer & Governmental Affairs Bureau Reminds States and Telecommunications Relay Services (TRS) Providers That the Annual Summary of Consumer Complaints Concerning TRS is Due Thursday, July 1, 2004

AGENCY: Federal Communications Commission.

ACTION: Notice.

SUMMARY: In this document, the Commission notifies the public, state Telecommunications Relay Services (TRS) programs, and interstate TRS providers that the annual consumer complaint log summaries are due on Thursday, July 1, 2004. Complaint log summaries should include information pertaining to complaints received between June 1, 2003 and May 31, 2004. To assist the Commission in monitoring the service quality of TRS providers, the Commission requires state TRS programs and interstate TRS providers to maintain a log of consumer complaints that allege violations of the federal TRS mandatory minimum standards. Complaint log summaries shall include the number of complaints received that allege a violation of the federal TRS mandatory minimum standards, the date of the complaint, the nature of the complaint, the date of its resolution, and an explanation of the resolution.

DATES: State TRS programs and interstate TRS providers must file the annual consumer complaint log summary no later than July 1, 2004.

ADDRESSES: Federal Communications Commission, 445 12th Street, SW., Washington, DC 20554.

FOR FURTHER INFORMATION CONTACT: Erica Myers, (202) 418-2429 (voice), (202) 418-0464 (TTY), or e-mail Erica.Myers@fcc.gov.

SUPPLEMENTARY INFORMATION: This is a summary of the Commission's Public Notice, DA 04-1599 released June 2, 2004. This document notifies state TRS programs and TRS providers that the annual complaint log summary for complaints received between June 1, 2003, and May 31, 2004, is due on Thursday, July 1, 2004. States and TRS providers who choose to submit by paper must submit an original and four copies of each filing on or before Thursday, July 1, 2004. To expedite the processing of complaint log summaries, states and TRS providers are encouraged to submit an additional copy to Attn: Erica Myers, Federal Communications Commission, Consumer & Governmental Affairs Bureau, 445 12th Street, SW., Room 6-A432, Washington, DC 20554 or by email at Erica.Myers@fcc.gov. States and interstate TRS providers should also submit electronic disk copies of their complaint log summaries on a standard 3.5 inch diskette formatted in an IBM compatible format using Word 97 or compatible software. The diskette should be submitted in “read-only” mode and must be clearly labeled with the state or interstate TRS provider name, the filing date and captioned “Complaint Log Summary.”

Filings can be sent by hand or messenger delivery, by electronic media, by commercial overnight courier, or by first-class or overnight U.S. Postal Service mail (although we continue to experience delays in receiving U.S. Postal Service mail). The Commission's contractor, Natek, Inc., will receive hand-delivered or messenger-delivered paper filings or electronic media for the Commission's Secretary at 236 Massachusetts Avenue, NE., Suite 110, Washington, DC 20002. The filing hours at this location are 8 a.m. to 7 p.m. All hand deliveries must be held together with rubber bands or fasteners. Any envelopes must be disposed of before entering the building. Commercial and electronic media sent by overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Marlene H. Dortch, Office of the Secretary, Federal Communications Commission, 445 12th Street, SW., Room TW-B204, Washington, DC 20554.

The filings and comments will be available for public inspection and copying during regular business hours at the FCC Reference Information Center, Portals II, 445 12th Street, SW., Room CY-A257, Washington, DC 20554. They may also be purchased from the Commission's duplicating contractor, Best Copy and Printing, Inc., Portals II, 445 12th Street, SW., Room CY-B402, Washington, DC 20554, telephone (202) 863-2893, facsimile (202) 863-2898, or via e-mail http://www.bcpiweb.com. Filings and comments may also be viewed on the Consumer & Governmental Affairs Bureau, Disability Rights Office homepage at http://www.fcc.gov/cgb/dro. To request materials in accessible formats for people with disabilities (Braille, large print, electronic files, audio format), send an e-mail to fcc504@fcc.gov or call the Consumer & Governmental Affairs Bureau at (202) 418-7365 (TTY). This Public Notice can also be downloaded in text and ASCII formats at http://www.fcc.gov/cgb/dro.

Synopsis: State TRS programs should report all complaints made to the state agency, as well as those made to the state's TRS provider. TRS providers that provide interstate TRS, interstate STS, interstate Spanish relay, interstate captioned telephone relay, VRS, and IP Relay are required to submit complaint log summaries. These logs are intended to provide an early warning system to the Commission of possible service quality problems. Additionally, this information allows the Commission to determine whether a state or interstate TRS provider has appropriately addressed consumer complaints and to spot national trends that may lend themselves to coordinated solutions. This information further enables states to learn how other states are resolving complaints. Id. at ¶ 122.

We note that according to the data presented in the state complaint log summary submissions for 2003, more than thirty million outgoing calls were placed by individuals through state relay facilities. Approximately thirty-five hundred complaints were reported that alleged a violation of one or more of the Commission's mandatory minimum standards for TRS. See 47 CFR 64.604. This number represents that less than one hundredth of a percent (.01%) of TRS calls, a statistically negligible number, resulted in an alleged violation of required service standards. This is good news for TRS users. At the same time, the complaint log summaries identified some areas where there is room for improvement. Over seventy-five percent of all complaints stemmed from the interaction between the calling party and the communications assistant. We therefore remind TRS providers and state administrators that their CAs must, among other things, be knowledgeable of TRS procedures, follow customer's instructions, and continue to keep callers informed about the progress of their call.

The complaint log summaries that have been submitted to the Commission by state TRS programs for 2002 and 2003 are currently available on the FCC Web site at http://www.fcc.gov/cgb/dro/trs_by_state.html. All 2004 complaint log summary submissions by state TRS programs and interstate TRS providers will also be available on this Web site.

Federal Communications Commission.
K. Dane Snowden,
Chief, Consumer & Governmental Affairs Bureau.

[FR Doc. 04-13490 Filed 6-15-04; 8:45 am]

BILLING CODE 6712-01-P